DEPARTMENT OF THE INTERIOR

Bureau of Reclamation

Red River Valley Water Supply Project, ND

AGENCY: Bureau of Reclamation, Interior.

ACTION: Notice for extension of the public comment period for the Draft Environmental Impact Statement (DEIS) and two additional public hearings to receive comment on the DEIS.

SUMMARY: The Bureau of Reclamation is announcing a 30-day extension of the public comment period for the Red River Valley Water Supply Project DEIS. The originally announced comment period ends on February 28, 2006, but has been extended until March 30, 2006. The original notice of availability of the DEIS, notice of public hearings, and additional information on the Red River Valley Water Supply Project were published in the Federal Register on December 30, 2005 (70 FR 250, 77425-77427).

DATES: Comments on the DEIS should be postmarked by March 30, 2006.

The two additional public hearings will be held on:

• Thursday, March 9, 2006, 1 p.m., Fort Yates, ND

• Monday, March 20, 2006, 7 p.m., New Town, ND

ADDRESSES: Send comments on the DEIS to Red River Valley Water Supply Project EIS, Bureau of Reclamation, Dakotas Area Office, P.O. Box 1017, Bismarck, ND 58502.

The additional public hearings will be held at:

• Fort Yates-Prairie Knights Casino and Resort, 7932 Highway 24, Fort Yates, ND

• 4 Bears Casino, Mandan-Hidatsa Room, 202 Frontage Road, New Town, ND

FOR FURTHER INFORMATION CONTACT: Ms. Signe Snortland, telephone: (701) 250-4242 extension 3621, or Fax to (701) 250-4326. You may submit e-mail comments to ssnortland@gp.usbr.gov or comments may be submitted through the Red River Valley Water Supply Project Web site at http://www.rrvwsp.com by March 30, 2006.

SUPPLEMENTARY INFORMATION: Reclamation's practice is to make comments, including names and home addresses of respondents, available for public review. Individual respondents may request that we withhold their home address from public disclosure, which we will honor to the extent allowable by law. There may be other circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: February 9, 2006.
Craig G. Peterson,
Manager, Infrastructure and Engineering Services, Great Plains Region, Bureau of Reclamation.

[FR Doc. E6-2393 Filed 2-17-06; 8:45 am]

BILLING CODE 4310-MN-P